DEPARTMENT OF ENERGY

10 CFR Part 430

[Docket Number: EE-2010-BT-STD-0011]

RIN 1904-AC22

Energy Conservation Program: Energy Conservation Standards for Furnace Fans: Reopening of Public Comment Period

AGENCY: Office of Energy Efficiency and Renewable Energy, Department of Energy.

ACTION: Proposed rule; reopening of public comment period.

SUMMARY: This document announces a reopening of the time period for submitting comments on the framework document to establish energy conservation standards for the use of electricity for purposes of circulating air through duct work of residential heating and cooling systems (“furnace fans”). The comment period closed on July 6, 2010. The comment period is reopened from July 15, 2010 until July 27, 2010.

DATES: Comments, data, and information relevant to the furnace fan rulemaking will be accepted until July 27, 2010.

ADDRESSES: Interested parties may submit comments, identified by docket number EERE-2010-BT-STD-0011 and/or Regulation Identifier Number (RIN) 1904-AC22, by any of the following methods:

• Federal eRulemaking Portal: http://www.regulations.gov. Follow the instructions for submitting comments.

• E-mail: FurnFans-2010-STD-0011@ee.doe.gov. Include docket number EERE-2010-BT-STD-0011 and/or RIN 1904-AC22 in the subject line of the message.

• Mail: Ms. Brenda Edwards, U.S. Department of Energy, Building Technologies Program, Mailstop EE-2J, Framework Document for Furnace Fans, Docket No. EERE-2010-BT-STD-0011 and/or RIN 1904-AC22, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Docket: For access to the docket to read background documents, a copy of the transcript of the public meeting, or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

FOR FURTHER INFORMATION CONTACT: Mr. Mohammed Khan, U.S. Department of Energy, Office of Energy Efficiency and Renewable Energy, Building Technologies Program, EE-2J, 1000 Independence Avenue, SW., Washington, DC 20585-0121. Telephone: (202) 586-7892. E-mail: Mohammed.Khan@ee.doe.gov.

Mr. Eric Stas, U.S. Department of Energy, Office of the General Counsel, GC-71, 1000 Independence Avenue, SW., Washington, DC, 20585-0121. Telephone: (202) 586-9507. E-mail: Eric.Stas@hq.doe.gov.

SUPPLEMENTARY INFORMATION: The U.S. Department of Energy (DOE) initiated a rulemaking to consider establishing new energy conservation standards or energy use standards for furnace fans on June 3, 2010 by publishing a notice in the Federal Register (75 FR 31323). The notice informed interested parties of the availability of a framework document that detailed the expected analytical approach and scope of coverage for the rulemaking, and identified several issues on which DOE is particularly interested in receiving comment. DOE held a public meeting on June 18, 2010 to discuss and receive comments on its analytical approach and associated issues. (A transcript of the public meeting is currently available on the DOE Web page at the following URL: http://www.eere.energy.gov/buildings/appliance_standards/residential/furnace_fans_framework.html) DOE announced in the Federal Register notice and at the public meeting that it would accept written comments through July 6, 2010.

The Air-Conditioning, Heating, and Refrigeration Institute (AHRI) requested an extension of the time to submit comments. In its request, AHRI stated that because many AHRI members will be attending the ASHRAE meetings, and considering the 4th of July holiday, industry would not have adequate time to appropriately respond to all the questions and issues raised by DOE in the framework document.

Based on the number and scope of questions and issues raised in the DOE framework document (and during the public meeting), DOE believes that reopening the comment period to allow additional time for interested parties to submit comments is appropriate. Therefore, DOE is reopening the comment period until July 27, 2010 to provide interested parties additional time to prepare and submit comments. DOE will accept comments received no later than July 27, 2010 and will consider any comments received between July 6, 2010 and July 27, 2010 to be timely filed.

Issued in Washington, DC, on July 8, 2010.
Cathy Zoi,
Assistant Secretary, Energy Efficiency and Renewable Energy.

[FR Doc. 2010-17212 Filed 7-14-10; 8:45 am]

BILLING CODE 6450-01-P